DEPARTMENT OF HEALTH AND HUMAN SERVICES

Food and Drug Administration

WERC: A Consortium for Environmental Education and Technology Development, Annual Environmental Design Contest; Availability of Sole Source Competing Continuation Cooperative Agreement; Request for Application: RFA-FDA-CFSAN-2005-3; Catalog of Federal Domestic Assistance Number 93.103

AGENCY: Food and Drug Administration, HHS.

ACTION: Notice.

I. Funding Opportunity Description

The Food and Drug Administration (FDA) is announcing its intent to accept and consider a single source competing continuation application for the award of a cooperative agreement to the Waste-Management Education and Research Consortium (WERC): A Consortium for Environmental Education and Technology Development to support the Annual Environmental Design Contest. FDA anticipates providing $106,000 (direct and indirect costs combined) in fiscal year 2005 in support of this research project. Subject to the availability of Federal funds and successful performance, 4 additional years of support up to $106,000 (direct and indirect costs combined) per year will be available. FDA will support the research covered by this notice under the authority of section 301 of the Public Health Service Act (42 U.S.C. 241). FDA's research program is described in the Catalog of Federal Domestic Assistance No. 93.103. Before entering into cooperative agreements, FDA carefully considers the benefits such agreements will provide to the public. The cooperative agreement ensures FDA's continued participation and support in the Annual Environmental Design Contest. Through a mix of science and engineering, it creates new resources and stimulates new and timely solutions to real world environmental problems.

II. Eligibility Information

Competition is limited to WERC because it is a unique educational opportunity and is the only college level competition of its kind.

WERC, a Consortium for Environmental Education and Technology Development, a program of the College of Engineering at New Mexico State University, was established in 1990 under a cooperative agreement with the U.S. Department of Energy. Starting in 1991, WERC has conducted an Annual Environmental Design Contest which is a unique educational experience for students from throughout the world. The contest provides an opportunity for students to address real world environmental and food safety related problems, experience a team developed project, publish research papers, and network with experts and potential employers. The contest is open to any 2-year, 4-year, or graduate degree institution. A high school-level competition has been held concurrently with the university contest since 1997. Many of the tasks deal with waste disposal, ground water contamination, nuclear waste treatment, and similar subjects; however in 2001, a food safety track was added and the contest was broadened to include disciplines such as microbiology and chemical contaminants in foods. The FDA has supported this program since Fiscal Year 2000. This notice confirms FDA's intent to fund for another 5-year project period.

As of October 1, 2003, applicants are required to have a Dun and Bradstreet Number (DUNS) to apply for a grant or cooperative agreement from the Federal Government. The DUNS number is a 9-digit identification number, which uniquely identifies business entities. Obtaining a DUNS number is easy and there is no charge. To obtain a DUNS number, call 1-866-705-5711. You should identify yourself as a Federal grant applicant when you contact Dun and Bradstreet, Inc.

III. Application and Submission

For further information or a copy of the complete Request for Applications (RFA) contact Cynthia Polit, Grants Management Specialist, Division of Contracts and Grants Management (HFA-500), Food and Drug Administration, 5600 Fishers Lane, Rockville, MD 20857, 301-827-7180, e-mail: cynthia.polit@fda.gov or cpolit@oc.fda.gov. This RFA can be viewed on Grants.gov under “Grant Find.” A copy of the complete RFA can also be viewed on the FDA/CFSAN website at http://www.cfsan.fda.gov/list.html. For issues regarding the programmatic aspects of this notice: Wendy Buckler, Center for Food Safety and Applied Nutrition, 5100 Paint Branch Pkwy., College Park, MD 20740, 301-436-1926, email: wendy.buckler@fda.gov.

Dated: September 1, 2005.
Jeffrey Shuren,
Assistant Commissioner for Policy.

[FR Doc. 05-17731 Filed 9-6-05; 8:45 am]

BILLING CODE 4160-01-S